FEDERAL RETIREMENT THRIFT INVESTMENT BOARD

Board Meeting; 77 K St. NE, Washington, DC; 10th Floor; September 17, 2018; 8:30 a.m.

Open Session

1. Approval of the Minutes of the August 27, 2018 Board Meeting

2. Monthly Reports

(a) Participant Activity

(b) Investment Policy

(c) Legislative Report

3. FY 19 Budget Review and Approval

4. Vendor Risk Management Update

5. Capital Market and L Fund Update

6. IT Update

Closed Session

Information covered under 5 U.S.C. 552b(c)(4) and (c)(9)(B).

CONTACT PERSON FOR MORE INFORMATION: Kimberly Weaver, Director, Office of External Affairs, (202) 942-1640.

Dated: September 7, 2018.
Dharmesh Vashee,
Deputy General Counsel, Federal Retirement Thrift Investment Board.

[FR Doc. 2018-19833 Filed 9-11-18; 8:45 am]

BILLING CODE 6760-01-P